DEPARTMENT OF THE INTERIOR

Fish and Wildlife Service

Notice of Intent to Prepare an Environmental Impact Statement for the Ginn Company Battle Mountain Habitat Conservation Plan

AGENCY: Fish and Wildlife Service, Interior.

ACTION: Notice of intent.

SUMMARY: Under the National Environmental Policy Act (NEPA), the U.S. Fish and Wildlife Service (Service) advises the public that we intend to gather information necessary to prepare, in coordination with the Ginn Company (Applicant), an Environmental Impact Statement (EIS) for the Battle Mountain Habitat Conservation Plan (HCP) in accordance with section 10(a)(1)(B) of the Endangered Species Act. The Service provides this notice to—(1) Describe the proposed actions and possible alternatives; (2) advise other Federal and State agencies, affected Tribes, and the public of our intent to prepare an EIS; (3) announce the initiation of a public scoping period; and (4) obtain suggestions and information on the scope of issues and alternatives to be included in the EIS.

DATES: Written comments should be received on or before December 14, 2006.

ADDRESSES: Information, written comments, or questions related to the preparation of the EIS and the NEPA process should be submitted to Al Pfister, Western Colorado Field Office, 764 Horizon Drive, Building B, Grand Junction, Colorado 81506-3964 or via fax to (970) 245-6933. Comments may be submitted by e-mail to the following address: GinnHCP_scoping@fws.gov.

FOR FURTHER INFORMATION CONTACT: Al Pfister, Western Colorado Project Leader, at the above address, or telephone 970-243-2778, extension 29.

SUPPLEMENTARY INFORMATION:

Background

Section 9 of the Endangered Species Act (Act) (16 U.S.C. 1538) and Federal regulations prohibit the “take” of a fish or wildlife species listed as threatened or endangered. Under the Act, the following activities are defined as take: to harass, harm, pursue, hunt, shoot, wound, kill, trap, capture or collect listed animal species, or to attempt to engage in such conduct (16 U.S.C. 1532). However, under section 10(a)(1)(B) of the Act, we may issue permits to authorize “incidental take” of listed species. “Incidental take” is defined by the regulations that implement the Act as take that is incidental to, and not the purpose of, carrying out an otherwise lawful activity. Regulations governing permits for threatened species and endangered species are at 50 CFR 17.32 and 50 CFR 17.22, respectively.

The EIS would analyze the Service's potential issuance of an Incidental Take Permit (ITP) to the Applicant for its proposed Battle Mountain development. Should a permit be issued, the permit may include assurances under the Service's “No Surprises” regulations.

The Applicant's proposed development project for private land on Battle Mountain includes a resort and an accompanying private ski area between the towns of Minturn and Red Cliff in Eagle County, Colorado. The project area encompasses approximately 1,943 hectares (ha) (4,800 acres (ac)). The residential development will include approximately 480 single and multiple family homes and 250 condo-style units. The ski area will include trails for all ability levels, creating approximately 445 ha (1,100 ac) of skiing, and will include skier services and amenities. The project is divided into three character areas for purposes of a conceptual plan.

The Holy Cross Character Area consists of approximately 512 ha (1,265 ac). It will principally contain single-family homes on 0.4- and 0.8-ha (1- and 2-ac) lots and will interface with the ski area development to create ski in/out lodging. Approximately 62 dwelling units are proposed in this area. Approximately 438 ha (1,081 ac) of land in this character area will be designated recreation open space, which allows for year-round activities, including hiking, biking, and skiing.

The Rock Creek Character Area consists of approximately 522 ha (1,290 ac) and is proposed to contain primarily single-family homes (up to 306 units) on varying lot sizes that also will interface with ski area development. This area will contain the Bolts Lake Gondola terminal for the top of the mountain, which will be utilized for services and passenger transport. This building will be associated with some skier services and amenities. Approximately 327 ha (807 ac) of this character area will be designated recreation open space, which allows for year-round activities, including hiking, biking, and skiing.

The Willow Creek Character Area consists of approximately 457 ha (1,130 ac) and is proposed to contain primarily multiple-family units (up to 265), with approximately 84 single-family homes on 0.2-ha (0.5-ac) lots. This area will contain the resort core buildings that also will interface with ski area development. The Bolts Lake gondola will terminate at the icon building in Willow Creek, which contains the majority of skier services and amenities, including restaurants and the beginner ski area with teaching terrain. Approximately 392 ha (968 ac) of this character area will be designated recreation open space, which allows for year-round activities, including hiking, biking, and skiing.

The following four species are proposed to be addressed in the HCP: Canada lynx (Lynx canadensis), bald eagle (Haliaetus leucocephalus), boreal toad (Bufo boreas boreas) (not a listed species), and slender moonwort (Botrychium lineare). Each of these species may be directly or indirectly affected by the Applicant's proposed development.

The proposed HCP and ITP would cover incidental take associated with the construction, operation, and maintenance of the Battle Mountain residential resort and ski area, including—(1) Vegetation clearing in areas of suitable Canada lynx habitat; (2) construction and increased human activity within the project area; and (3) increased vehicle traffic on both I-70 and Highway 24, as well as within the project area.

The draft HCP, prepared by the Applicant in support of the ITP application, will describe the impacts of take on proposed covered species, and will propose a conservation strategy to minimize and mitigate those impacts to the maximum extent practicable. The Applicant will develop habitat conservation measures for these species, with assistance from the Service.

The Applicant is currently considering the following conservation measures as part of the HCP—(1) Creation of suitable winter forage habitat for lynx; (2) designing and implementing a traffic management plan to address increased vehicular traffic; (3) creating a fund for habitat protection and enhancement opportunities in the Eagle River Basin; and (4) financial support of Canada lynx reintroduction programs by the Colorado Division of Wildlife. The Applicant and the Service will assess the implementation of these conservation measures for the duration of the HCP and term of the ITP. Implementation of the HCP would include monitoring compliance and regular reporting to the Service.

Environmental Impact Statement

The Service and the Applicant will select an environmental consulting firm to prepare the draft EIS to be prepared in accordance with NEPA. Although consultants will prepare the EIS, we will supervise the scope and content of the document for NEPA purposes. The EIS will consider the proposed action and a reasonable range of alternatives. A detailed description of the proposed action and alternatives will be included in the EIS. It is anticipated that several alternatives will be developed, which may vary by level of conservation, impacts caused by the proposed activities, permit area, or a combination of these factors. These alternatives will address alternative actions that can achieve some or all of the proposed action's purposes and needs. Additionally, we will evaluate a No-Action alternative. Under the No-Action alternative, we would not issue a section 10(a)(1)(B) permit.

The EIS also will evaluate potentially significant impacts on biological resources, land use, and socioeconomic and other environmental issues that could occur directly or indirectly with implementation of the proposed action and alternatives. For all potential impacts, the EIS will identify mitigation measures, where feasible, to reduce these impacts to a level below significance.

We will conduct an environmental review of the EIS in accordance with the requirements of NEPA (42 U.S.C. 4321 et seq.), its implementing regulations (40 CFR parts 1500-1508), other applicable regulations, and our procedures for compliance with those regulations. We are furnishing this notice in accordance with 40 CFR 1501.7 of the NEPA implementing regulations, to obtain suggestions and information from other agencies and the public on the scope of issues and alternatives to be addressed in the EIS. The primary purpose of the scoping process is to identify important issues raised by the public that are related to the proposed action. We invite written comments from interested parties to help us identify the full range of issues related to the proposed action. You may submit written comments by mail or facsimile transmission (see ADDRESSES). All comments received, including names and addresses, will become part of the official administrative record and may be made available to the public.

The Service requests that comments be specific. In particular, we request information regarding—direct, indirect, and cumulative impacts that implementation of the proposed HCP or other alternatives could have on endangered and threatened and other covered species, and their communities and habitats; other possible alternatives that meet the purpose and need of the proposed HCP; potential adaptive management and/or monitoring provisions; funding issues; existing environmental conditions in the plan area; other plans or projects that might be relevant to this proposed project; permit duration; maximum acreage that should be covered; specific species that should or should not be covered; specific landforms that should or should not be covered; and minimization and mitigation efforts. The Service estimates that the draft EIS will be available for public review in the spring of 2007.

Dated: October 4, 2006.
James J. Slack,
Deputy Regional Director, Region 6.

[FR Doc. E6-19142 Filed 11-13-06; 8:45 am]

BILLING CODE 4310-55-P